NATIONAL SCIENCE FOUNDATION

Advisory Committee for Biological Sciences (BIO); Notice of Meeting

In accordance with the Federal Advisory Committee Act (Pub. L. 92-463, as amended), the National Science Foundation announces the following meeting:

Name: Advisory Committee for Biological Sciences (BIO) (1110).

Dates and Time: November 2, 2006; 9 a.m.-5 p.m., November 3, 2006; 9 a.m.-3 p.m.

Place: National Science Foundation, 4201 Wilson Blvd., Arlington, VA 22230, Room 375.

Type of Meeting: Open.

Contact Person: Dr. Joanne Tornow, Senior Advisor for Strategic Planning, Policy and Analysis, Biological Sciences, Room 605, National Science Foundation, 4201 Wilson Boulevard, Arlington, VA 22230 Tel. No.: (703) 292-8400.

Minutes: May be obtained from the contact person listed above.

Purpose of Meeting: The Advisory Committee for BIO provides advice, recommendations, and oversight concerning major program emphases, directions, and goals for the research-related activities of the divisions that make up BIO.

Agenda: Joint session with the Education and Human Resources Directorate Planning and Issues Discussion:

• BIO Status and FY 07 Budget.

• NSF Strategic Plan.

• NEON Update.

• Committee of Visitors Reports.

Dated: September 22, 2006.
Joann P. Roskoski,
Executive Officer, Biological Sciences.

[FR Doc. 06-8292 Filed 9-26-06; 8:45 am]

BILLING CODE 7555-01-M